DEPARTMENT OF HOMELAND SECURITY

Federal Emergency Management Agency

[Docket ID FEMA-2014-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Arkansas:
Garland (FEMA Docket No.: B-1358) | Unincorporated areas of Garland County (13-06-1581P) | The Honorable Rick M. Davis, Garland County Judge, P.O. Box 368, Pearcy, AR 71964 | Garland County Courthouse, 501 Quachita Avenue, Hot Springs, AR 71901 | March 17, 2014 | 050433
Saline (FEMA Docket No.: B-1358) | Unincorporated areas of Saline County (13-06-1581P) | The Honorable Lanny Fite, Saline County Judge, 200 North Main Street, Room 117, Benton, AR 72015 | Saline County Courthouse, 200 North Main Street, Room 117, Benton, AR 72015 | March 17, 2014 | 050191
New Mexico:
Bernalillo (FEMA Docket No.: B-1402) | Unincorporated areas of Bernalillo County (12-06-4069P) | The Honorable Debbie O'Malley, Chairman, Bernalillo County Board of Commissioners, 1 Civic Plaza Northwest, Albuquerque, NM 87102 | Bernalillo County Public Works Division, 2400 Broadway Boulevard Southeast, Albuquerque, NM 87102 | April 10, 2014 | 350001
Lea (FEMA Docket No.: B-1358) | Unincorporated areas of Lea County (13-06-1634P) | Mr. Michael Gallagher, Manager, Lea County, 100 North Main Street, Suite 4, Lovington, NM 88260 | Lea County, 100 North Main Street, Lovington, NM 88260 | March 6, 2014 | 350130
New York:
Dutchess (FEMA Docket No.: B-1402) | Town of Fishkill (13-02-1873P) | The Honorable Robert LaColla, Supervisor, Town of Fishkill, 807 Route 52, Fishkill, NY 12524 | Town Hall, 807 Route 52, Fishkill, NY 12524 | April 2, 2014 | 361337
Dutchess (FEMA Docket No.: B-1402) | Town of Wappinger (13-02-1873P) | The Honorable Barbara A. Gutzler, Supervisor, Town of Wappinger, 20 Middlebush Road, Wappingers Falls, NY 12590 | Wappinger Town Hall, 20 Middlebush Road, Wappingers Falls, NY 12590 | April 2, 2014 | 361387
Oklahoma:
Oklahoma (FEMA Docket No.: B-1358) | City of Oklahoma City (13-06-3021P) | The Honorable Mick Cornett, Mayor, City of Oklahoma City, 200 North Walker Avenue, 3rd Floor, Oklahoma City, OK 73102 | 420 West Main Street, Suite 700, Oklahoma City, OK 73102 | March 6, 2014 | 405378
Tulsa (FEMA Docket No.: B-1358) | City of Tulsa (13-06-1997P) | The Honorable Dewey F. Bartlett, Jr., Mayor, City of Tulsa, 175 East 2nd Street, Suite 690, Tulsa, OK 74103 | Engineering Services, 2317 South Jackson Avenue,, Room S-312, Tulsa, OK 74107 | March 17, 2014 | 405381
Tulsa (FEMA Docket No.: B-1358) | City of Tulsa (13-06-2412P) | The Honorable Dewey F. Bartlett, Jr., Mayor, City of Tulsa, 175 East 2nd Street, Suite 690, Tulsa, OK 74103 | Engineering Services, 2317 South Jackson Avenue, Room S-312, Tulsa, OK 74107 | March 31, 2014 | 405381
Tulsa (FEMA Docket No.: B-1402) | City of Tulsa (13-06-2978P) | The Honorable Dewey F. Bartlett, Jr., Mayor, City of Tulsa, 175 East 2nd Street, Suite 690, Tulsa, OK 74103 | Engineering Services, 2317 South Jackson Avenue, Room S-312, Tulsa, OK 74107 | April 7, 2014 | 405381
Pennsylvania:
Bucks (FEMA Docket No.: B-1358) | Borough of New Hope (13-03-1604P) | Mr. John Burke, Manager, Borough of New Hope, 123 New Street, New Hope, PA 18938 | Borough Hall, 123 New Street, New Hope, PA 18938 | March 13, 2014 | 420195
Dauphin (FEMA Docket No.: B-1402) | Township of Lower Paxton (13-03-2589P) | The Honorable William B. Hawk, Chairman, Township of Lower Paxton Board of Supervisors, 425 Prince Street, Harrisburg, PA 17109 | Lower Paxton Township Hall, 425 Prince Street, Harrisburg, PA 17109 | April 2, 2014 | 420384
Texas:
Dallas (FEMA Docket No.: B-1358) | City of Dallas (13-06-2373P) | The Honorable Mike Rawlings, Mayor, City of Dallas, 1500 Marilla Street, Room 5EN, Dallas, TX 75201 | Department of Public Works, 320 East Jefferson Boulevard, Room 307, Dallas, TX 75203 | March 17, 2014 | 480171
Gray (FEMA Docket No.: B-1358) | City of Pampa (13-06-2524P) | The Honorable Brad Pingel, Mayor, City of Pampa, P.O. Box 2499, Pampa, TX 79066 | 200 West Foster Avenue, Pampa, TX 79066 | March 31, 2014 | 480258
Harris (FEMA Docket No.: B-1358) | Unincorporated areas of Harris County (13-06-1076P) | The Honorable Ed M. Emmett, Harris County Judge, 1001 Preston Street, Suite 911, Houston, TX 77002 | Harris County, 10555 Northwest Freeway, Houston, TX 77092 | March 6, 2014 | 480287
Hidalgo (FEMA Docket No.: B-1358) | Unincorporated areas of Hidalgo County (13-06-3440P) | The Honorable Ramon Garcia, Hidalgo County Judge, 302 West University Drive, Edinburg, TX 78539 | Hidalgo County, Drainage District, 902 North Doolittle Road, Edinburg, TX 78542 | March 13, 2014 | 480334
Midland (FEMA Docket No.: B-1358) | City of Midland (12-06-4034P) | The Honorable Jerry Morales, Mayor, City of Midland, 300 North Loraine Street, Midland, TX 79701 | City Hall, 300 North Loraine Street, Midland, TX 79701 | March 10, 2014 | 480477
Midland (FEMA Docket No.: B-1358) | Unincorporated areas of Midland County (12-06-4034P) | The Honorable Michael R. Bradford, Midland County Judge, 500 North Loraine Street, 11th Floor, Midland, TX 79701 | Midland County Courthouse, 500 North Loraine Street, Midland, TX 79701 | March 10, 2014 | 481239
Montgomery (FEMA Docket No.: B-1358) | Unincorporated areas of Montgomery County (13-06-2600P) | The Honorable Alan B. Sadler, Montgomery County Judge, 501 North Thompson Street, Suite 401, Conroe, TX 77301 | Montgomery County Permitting Department, 501 North Thompson Street, Suite 100, Conroe, TX 77301 | March 24, 2014 | 480483
Rockwall (FEMA Docket No.: B-1358) | City of Rockwall (13-06-2095P) | The Honorable David Sweet, Mayor, City of Rockwall, 385 South Goliad Street, Rockwall, TX 75087 | City Hall, 385 South Goliad Street, Rockwall, TX 75087 | February 28, 2014 | 480547
Travis, (FEMA Docket No.: B-1358) | Unincorporated areas of Travis County, (13-06-1967P) | The Honorable Samuel T. Biscoe, Travis County Judge, P.O. Box 1748, Austin, TX 78767 | Travis County Administration Building, Transportation and Natural Resources Department, 700 Lavaca Street, 5th Floor, Austin, TX 78701 | March 13, 2014 | 481026
Williamson (FEMA Docket No.: B-1402) | City of Cedar Park (13-06-2364P) | The Honorable Matt Powell, Mayor, City of Cedar Park, 450 Cypress Creek Road, Building 4, Cedar Park, TX 78613 | Engineering Department, 450 Cypress Creek Road, Building 1, Cedar Park, TX 78613 | April 10, 2014 | 481282
Virginia:
Fairfax (FEMA Docket No.: B-1402) | Unincorporated areas of Fairfax County (13-03-2194P) | Mr. Edward L. Long, Jr., Fairfax County Executive, 12000 Government Center Parkway, Fairfax, VA 22035 | Fairfax County, Stormwater Planning Division, 12000 Government Center Parkway, Suite 449, Fairfax, VA 22035 | April 7, 2014 | 515525
Henrico (FEMA Docket No.: B-1402) | Unincorporated areas of Henrico County (13-03-1863P) | Mr. John A. Vithoulkas, Henrico County Manager, P.O. Box 90775, Henrico, VA 23273 | Henrico County Government Center, 4301 East Parham Road, Henrico, VA 23228 | April 7, 2014 | 510077
James City County (FEMA Docket No.: B-1402) | Unincorporated areas of James City County (12-03-2459P) | Mr. Douglas Powell, James City County Acting County Administrator, P.O. Box 8784, Williamsburg, VA 23187 | James City County, 101 Mounts Bay Road, Building A, Williamsburg, VA 23185 | March 6, 2014 | 510201
Roanoke (FEMA Docket No.: B-1358) | Unincorporated areas of Roanoke County (12-03-0347P) | Mr. B. Clayton Goodman, III, Roanoke County Administrator, 5204 Bernard Drive, Roanoke, VA 24018 | Roanoke County Community Development Department, 5204 Bernard Drive, Roanoke, VA 24018 | March 13, 2014 | 510190

(Catalog of Federal Domestic Assistance No. 97.022, “Flood Insurance.”)

Dated: April 22, 2014.
Roy E. Wright,
Deputy Associate Administrator for Mitigation, Department of Homeland Security, Federal Emergency Management Agency.

[FR Doc. 2014-11134 Filed 5-14-14; 8:45 am]

BILLING CODE 9110-12-P